DEPARTMENT OF COMMERCE

National Oceanic and Atmospheric Administration

RIN 0648-XD155

Gulf of Mexico Fishery Management Council; Public Meeting

AGENCY: National Marine Fisheries Service (NMFS), National Oceanic and Atmospheric Administration (NOAA), Commerce.

ACTION: Notice; public meetings.

SUMMARY: The Gulf of Mexico Fishery Management Council (Council) will hold a meeting of the Standing, Special Shrimp and Special Red Drum Scientific and Statistical Committees (SSC).

DATES: The meetings will be held from 1 p.m. on Wednesday, March 19 until 5 p.m. Thursday, March 20, 2014.

ADDRESSES: Meeting address: The meetings will be held at the Astor Crowne Plaza Hotel, 739 Canal Street, New Orleans, LA 70130.

Council address: Gulf of Mexico Fishery Management Council, 2203 North Lois Avenue, Suite 1100, Tampa, FL 33607.

FOR FURTHER INFORMATION CONTACT: Mr. Steven Atran, Senior Fishery Biologist, Gulf of Mexico Fishery Management Council; telephone: (813) 348-1630; fax: (813) 348-1711; email: steven.atran@gulfcouncil.org.

SUPPLEMENTARY INFORMATION: The items of discussion in the individual meeting agendas are as follows:

Standing and Special Shrimp SSC Agenda, Wednesday, March 19, 2014, 1 p.m. Until 5 p.m. CST

1. Introductions and Adoption of Agenda

2. Approval of October 9, 2012 Shrimp SSC summary minutes

3. Review of new stock assessments for penaeid shrimp

a. Brown shrimp

b. White shrimp

c. Pink shrimp

4. Biological review of the Texas closure

5. Review draft options for shrimp amendment 15 status determination criteria for penaeid shrimp and adjustments to the shrimp FMP framework procedure

6. Discussion of ACL adjustment and accountability measures for royal red shrimp

7. Other Business

Standing and Special Shrimp SSC Agenda, Thursday, March 20, 2014, 8:30 a.m.—As Needed and Standing and Special Red Drum SSC Agenda, Thursday, March 20, 2014, at the Conclusion of Shrimp SSC Until 5 p.m.

1. Introductions and adoption of agenda

2. Approval of May 19, 2010 Red Drum SSC summary minutes

a. Approval of May 19, 2010 red drum portion of SSC summary minutes

b. Review of January 23-24, 2014 red drum portion of Standing and Reef Fish SSC summary minutes (approval deferred until next Reef Fish SSC meeting)

3. Discussion of possible data poor methods to set OFL

a. Review of method based on Martell and Froese

b. Discussion of other data poor methods and data needs

4. Formation of a Data Triage Working Group

a. Charge to the working group

b. Selection of working group members

5. Plan of action and next steps

Standing SSC Agenda, Thursday, March 20, 2014, at the Conclusion of Red Drum SSC Until 5 p.m. CST

1. Analysis needs for further development of ABC control rule alternatives

2. Review of new National Standard 2 guidelines

3. Selection of SSC representative at April 7-11, 2014 Council meeting (Baton Rouge)

4. Other Business

Although other non-emergency issues not on the agenda may come before the Scientific and Statistical Committees for discussion, in accordance with the Magnuson-Stevens Fishery Conservation and Management Act, those issues may not be the subject of formal action during these meetings. Actions of the Scientific and Statistical Committees will be restricted to those issues specifically identified in the agenda and any issues arising after publication of this notice that require emergency action under Section 305(c) of the Magnuson-Stevens Fishery Conservation and Management Act, provided the public has been notified of the Council's intent to take action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: February 25, 2014.
Tracey L. Thompson,
Acting Deputy Director, Office of Sustainable Fisheries, National Marine Fisheries Service.

[FR Doc. 2014-04450 Filed 2-27-14; 8:45 am]

BILLING CODE 3510-22-P